DEPARTMENT OF TRANSPORTATION

Federal Aviation Administration

Notice of Availability, Notice of Public Comment Period, Notice of Public Meeting, and Request for Comment on the Draft Environmental Assessment for the Titusville-Cocoa Airport Authority Launch Site Operator License

AGENCY: The Federal Aviation Administration (FAA), Department of Transportation (DOT) is the lead agency. The National Aeronautics and Space Administration (NASA) and the U.S. Air Force are cooperating agencies for this Environmental Assessment (EA).

ACTION: Notice of availability, notice of public comment period, notice of public meeting, and request for comment.

SUMMARY: The FAA is announcing the availability of and requesting comments on the Draft Environmental Assessment (EA) for the Titusville-Cocoa Airport Authority (TCAA) Launch Site Operator License. The FAA has prepared the Draft EA to evaluate the potential environmental impacts of the FAA issuing a Launch Site Operator License to TCAA for the operation of a commercial space launch site at the Space Coast Regional Airport (TIX). Under the proposed action, TCAA would operate a commercial space launch site at TIX to offer the site for launches of horizontal takeoff and horizontal landing launch vehicles from TIX. TCAA would also construct facilities related to the proposed launch site. The Draft EA considers the potential environmental impacts of the Proposed Action and the No Action Alternative.

DATES: Comments on the Draft EA must be received on or before January 17, 2020.

The FAA will hold a public meeting on January 8th, 2020, from 5:00 to 8:00 p.m. During this meeting, FAA representatives will have the chance to answer questions about the Draft EA. Members of the public will have the chance to provide written and/or oral comments at the meeting. We invite all interested parties to attend the meeting.

ADDRESSES: The public meeting will be held at the Ralph Poppell Airport Administration Building at Space Coast Regional Airport, 355 Golden Knights Boulevard, Titusville, Florida 32780.

Please submit comments or questions regarding the Draft EA to ICF, Attention: FAA TIX EA, 9300 Lee Highway, Fairfax, VA 22031. Comments may also be submitted by email to TIX_Spaceport_EA@icf.com.

FOR FURTHER INFORMATION CONTACT: Ms. Stacey M. Zee, Environmental Protection Specialist, Federal Aviation Administration, 800 Independence Avenue SW, Suite 325, Washington, DC 20591; email Stacey.Zee@faa.gov.

SUPPLEMENTARY INFORMATION: The FAA has prepared the Draft EA in accordance with the National Environmental Policy Act of 1969 (NEPA; 42 United States Code 4321 et seq.), the Council on Environmental Quality Regulations for Implementing the Procedural Provisions of NEPA (40 Code of Federal Regulations parts 1500-1508), and FAA Order 1050.1F, Environmental Impacts: Policies and Procedures, as part of its licensing process. Concurrent with the NEPA process and to determine the potential effects of the Proposed Action on historic and cultural properties, the FAA has initiated Section 106 Consultation with the Florida State Historic Preservation Office and the following Native America tribes: The Miccosukee Tribe of Indians of Florida, the Mississippi Band of Choctaw Indians, the Muscogee (Creek) Nation, the Poarch Band of Creek Indians, the Seminole Tribe of Florida, and the Seminole Nation of Oklahoma. Through consultation, the Mississippi Band of Choctaw Indians requested to be removed from the list of tribes consulted for this project. Pursuant to the U.S. Department of Transportation Act of 1966, this EA will comply with the requirements of Section 4(f) of the Act.

An electronic version of the Draft EA is available on the FAA Office of Commercial Space Transportation website at: https://www.faa.gov/about/office_org/headquarters_offices/ast/environmental/nepa_docs/review/documents_progress/space_coast/.

The FAA encourages all interested agencies, organizations, Native American tribes, and members of the public to submit comments concerning the analysis presented in the Draft EA by January 17, 2020. Comments should be as specific as possible and address the analysis of potential environmental impacts. Reviewers should organize their participation so that it is meaningful and makes the agency aware of the viewer's interests and concerns using quotations and other specific references to the text of the Draft EA and related documents. Matters that could have been raised with specificity during the comment period on the Draft EA may not be considered if they are raised for the first time later in the decision process. This comment procedure is intended to ensure that substantive comments and concerns are made available to the FAA in a timely manner so that the FAA has an opportunity to address them.

Before including your address, phone number, email address, or other personal identifying information in your comment, be advised that your entire comment—including your personal identifying information—may be made publicly available at any time. While you can ask us in your comment to withhold from the public review your personal identifying information, we cannot guarantee that we will be able to do so.

The FAA has prepared the Draft EA to evaluate the potential environmental impacts of the construction and operation of TIX as a launch location for horizontally launched and landed launch vehicles and issuing a Launch Site Operator License to TCAA at TIX. The EA considers the potential environmental impacts of the Proposed Action and the No Action Alternative. The successful completion of the environmental review process does not guarantee that the FAA Office of Commercial Space Transportation would issue a Launch Site Operator License to TCAA. The project must also meet all FAA requirements of a Launch Site Operator License. Individual launch operators proposing to launch from the site would be required to obtain a separate launch operator license.

Issued in Washington, DC, on December 10, 2019.
Daniel Murray,
Manager, Space Transportation Development Division.

[FR Doc. 2019-27419 Filed 12-18-19; 8:45 am]

BILLING CODE 4910-13-P